SMALL BUSINESS ADMINISTRATION

[Disaster Declaration #15567 and #15568; HAWAII Disaster Number HI-00049]

Presidential Declaration Amendment of a Major Disaster for the State of Hawaii

AGENCY: U.S. Small Business Administration.

ACTION: Amendment 2.

SUMMARY: This is an amendment of the Presidential declaration of a major disaster for the State of Hawaii

(FEMA-4366-DR), dated 06/14/2018.

Incident: Kilauea Volcanic Eruption and Earthquakes.

Incident Period: 05/03/2018 through 08/17/2018.

DATES: Issued on 09/26/2018.

Physical Loan Application Deadline Date: 09/12/2018.

Economic Injury (EIDL) Loan Application Deadline Date: 03/14/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Hawaii, dated 06/14/2018, is hereby amended to establish the incident period for this disaster as beginning 05/03/2018 and continuing through 08/17/2018.

All other information in the original declaration remains unchanged.

(Catalog of Federal Domestic Assistance Number 59008)

James Rivera,
Associate Administrator for Disaster Assistance.

[FR Doc. 2018-21578 Filed 10-3-18; 8:45 am]

BILLING CODE 8025-01-P